DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons whose property and interests in property have been unblocked and who have been removed from the SDN List.

DATES: See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On September 3, 2025, OFAC determined that the property and interests in property subject to U.S. jurisdiction of the following person are unblocked and they have been removed from the SDN List.

1. LITVINIUK, Iryna (a.k.a. LITVINIUK, Hennadzievna; a.k.a. LITVINIUK, Irina Gennadievna), Mihaila Ptashuka 11-72, Minsk, Belarus; DOB 19 Nov 1990; POB Kobrin, Belarus; nationality Belarus; Gender Female; Passport MP4622471 (Belarus) expires 05 Jul 2031; alt. Passport MP3974861 (Belarus) expires 18 Apr 2027; alt. Passport AB2727384 (Belarus) expires 09 Jul 2023; National ID No. 4191190C002PB3 (Belarus) (individual) [GLOMAG].

2. WADI, Musbah Mohamad M (a.k.a. WADY, Mosbah Mohamed), Malta; Cyprus; Omar Almohar, Tripoli, Libya; DOB 12 Jul 1993; POB Libya; nationality Libya; Gender Male; Passport 524945 (Libya); alt. Passport RL2957C0 (Libya) (individual) [LIBYA3].

(Authority: 31 CFR chapter V.)

Bradley T. Smith,
Director, Office of Foreign Assets Control.

[FR Doc. 2025-19302 Filed 10-1-25; 8:45 am]

BILLING CODE 4810-AL-P